DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from August 17, to August 21, 2009.

For further information, please contact Edson Beall via: United States Postal Service mail, at the National Register of Historic Places, 2280, National Park Service, 1849 C St., NW., Washington, DC 20240; in person (by appointment), 1201 Eye St., NW., 8th Floor, Washington, DC 20005; by fax, 202-371-2229; by phone, 202-354-2255; or by e-mail, Edson_Beall@nps.gov.

Dated: October 13, 2009.
J. Paul Loether,
Chief, National Register of Historic Places/ National Historic Landmarks Program.

Key: State, County, Property Name, Address/Boundary, City, Vicinity, Reference Number, Action, Date, Multiple Name.

IOWA

Madison County

Seerley, William and Mary (Messersmith) Barn and Milkhouse—Smokehouse, 1840 137th La., Earlham vicinity, 09000621, LISTED, 8/20/09.

MASSACHUSETTS

Norfolk County

Sea Street Historic District, Roughly bounded by Bridge, North, Neck Sts., Crescent Rd., Pearl St. and rear of Standish St., Weymouth, 09000646, LISTED, 8/19/09.

MINNESOTA

McLeod County

Komensky School, 19981 Major Ave., Hutchinson vicinity, 09000622, LISTED, 8/20/09.

Ramsey County

O'Donnell Shoe Company Building, 509 Sibley St., St. Paul, 09000623, LISTED, 8/20/09.

MISSISSIPPI

Lee County

Carnation Milk Plant, 520 Carnation St., Tupelo, 09000624, LISTED, 8/20/09.

Marion County

Columbia North Residential Historic District, Roughly bounded by High School and N. Main St. on the W. and Park Ave. and Branton Ave. on the E., Columbia, 09000625, LISTED, 8/20/09.

MISSOURI

St. Louis Independent City

Stickney, William A., Cigar Company Building, 209 N. 4th St., St. Louis, 09000627, LISTED, 8/20/09.

MONTANA

Missoula County

Missoula Downtown Historic District, Roughly bounded by Northern Pacific RR, Clak Fork R, Little McCormick Park and Madison St., Missoula, 07000647, LISTED, 8/21/09. (Missoula MPS.)

NEW YORK

Broome County

Wells, J. Stuart, House, 71 Main St., Binghamton, 09000628, LISTED, 8/21/09.

Chautauqua County

Wellman Building, The, 101-103 W. 3rd St. & 215-217 Cherry St., Jamestown, 09000629, LISTED, 8/21/09.

Erie County

Lafayette Avenue Presbyterian Church, 875 Elmwood Ave., Buffalo, 09000630, LISTED, 8/21/09.

St. Francis Xavier Roman Catholic Parish Complex, 157 East St., Buffalo, 09000631, LISTED, 8/20/09.

Kings County

Brooklyn Trust Company Building, 177 Montague St., Brooklyn, 09000632, LISTED, 8/20/09.

Lewis County

Pine Grove Community Church, Austin Rd. & Pine Grove Rd., Pine Grove vicinity, 09000633, LISTED, 8/20/09.

New York County

Emerson, The, 554 W. 53rd St., New York, 09000634, LISTED, 8/20/09.

Oneida County

von Steuben, Baron, Memorial Site, Starr Hill Rd., Remsen vicinity, 09000635, LISTED, 8/21/09.

NORTH CAROLINA

Mecklenburg County

Huntersville Colored High School, 302 Holbrooks Rd., Huntersville, 09000636, LISTED, 8/20/09.

Orange County

Murphy School, 3729 Murphy School Rd., Hillsborough vicinity, 09000637, LISTED, 8/20/09.

Transylvania County

East Main Street Historic District, 249-683 and 768 East Main St.; 6-7 Rice St.; St. Phillip's Ln.; 1-60 Woodside Dr.; and 33 Deacon Ln., Brevard, 09000638, LISTED, 8/20/09. (Transylvania County MPS.)

UTAH

Summit County

O'Mahony Dining Car No. 1107, 981 W. Weber Canyon Rd., Oakley, 09000639, LISTED, 8/21/09.

VIRGINIA

Lunenburg County

Fort Mitchell Depot, 5570-5605 Fort Mitchell Dr., Fort Mitchell, 09000640, LISTED, 8/20/09.

Newport News Independent City

Simon Reid Curtis House, 10 Elmhurst St., Newport News, 09000641, LISTED, 8/20/09.

Shenandoah County

Bowman-Zirkle Farm, 12097 S. Middle Rd., Edinburg vicinity, 09000642, LISTED, 8/21/09.

Clem-Kagey Farm, 291 Belgravia Rd., Edinburg vicinity, 09000643, LISTED, 8/20/09.

[FR Doc. E9-25559 Filed 10-22-09; 8:45 am]

BILLING CODE P